DEPARTMENT OF TRANSPORTATION

Connected Vehicle Research Program Public Meeting; Notice of Public Meeting

AGENCY: ITS Joint Program Office, Research and Innovative Technology Administration, U.S. Department of Transportation.

ACTION: Notice.

The U.S. Department of Transportation (USDOT) Intelligent Transportation System Joint Program Office (ITS JPO) will host a public meeting seeking stakeholder input and public sector guidance to the Federal Highway Administration (FHWA) and Research and Innovative Technology Administration (RITA) Connected Vehicle Systems. The meeting will take place Thursday, January 16, 2014, from 1:00 p.m. (EST) to 4:00 p.m. (EST) in the Hampton Room at the Omni Shoreham Hotel, 2500 Calvert Street, NW in Washington, DC. Remote participation will be available via webinar. Persons planning to attend the meeting or participate in the webinar should register online at www.itsa.org/policy2014.

The USDOT would like input from transportation infrastructure owner/operators on their needs for guidelines, tools, resources, and policies that will support the successful implementation and operations of connected vehicle technologies. The primary target audience for the meeting is State and local Departments of Transportation, transit operators, other operating agencies, and infrastructure owners who are starting to plan for the deployment and use of connected vehicle technologies in their area. While the meeting is specifically focused for an audience that has followed connected vehicle research and is formulating plans for implementation, it is open to other stakeholders in the connected vehicle community, including national associations and the general public.

Attendees will be asked to discuss their needs for guidelines, tools, and resources to best support their decisions and deployments. Attendees will also be asked to identify anticipated institutional challenges. The results of the meeting will be used as input for FHWA's development of Connected Vehicle guidance that is expected in 2015 and will also inform the Federal Transit Administration.

For more information, please contact Robert Arnold, FHWA, Director, Office of Transportation Management at robert.arnold@dot.gov or by telephone at 202-366-1285. Agenda items for the meeting are subject to change. Meeting information will be posted to the Web site http://www.its.dot.gov/.

Issued in Washington, DC, on the 19th day of December 2013.
John Augustine,
Managing Director, ITS Joint Program Office.

[FR Doc. 2013-30733 Filed 12-24-13; 8:45 am]

BILLING CODE 4910-HY-P